DEPARTMENT OF COMMERCE

International Trade Administration

(A-570-847)

Notice of Extension of Time Limit for the Final Results of the Administrative Review of the Antidumping Duty Order on Persulfates From the People's Republic of China

AGENCY: Import Administration, International Trade Administration, Department of Commerce.

EFFECTIVE DATE: December 5, 2005.

FOR FURTHER INFORMATION CONTACT: Charles Riggle at (202) 482-0650 or Frances Veith at (202) 482-4295, AD/CVD Operations, Office 8, Import Administration, International Trade Administration, U.S. Department of Commerce, 14th Street and Constitution Avenue, NW., Washington, DC 20230.

SUPPLEMENTARY INFORMATION:

Background

On August 10, 2005, the Department of Commerce (“the Department”) published the preliminary results of the administrative review of the antidumping duty order on persulfates from the People's Republic of China (“PRC”) covering the period July 1, 2003, through June 30, 2004. See Persulfates from the People's Republic of China: Notice of Preliminary Results of Antidumping Duty Administrative Review, 70 FR 46476 (August 10, 2005). The Department is extending the time limit for the final results of the administrative review of the antidumping duty order on persulfates from the PRC. The final results of this review are currently due no later than December 8, 2005.

Extension of Time Limit for Final Results of Review

Section 751(a)(3)(A) of the Tariff Act of 1930, as amended, (“the Act”), requires the Department to issue the final results of an administrative review within 120 days after the date on which the preliminary results are published. However, if it is not practicable to complete the review within this time period, section 751(a)(3)(A) of the Act allows the Department to extend the time limit for the final results to 180 days (or 300 days if the Department does not extend the time limit for the preliminary results) from the date of publication of the preliminary results. Completion of the final results within the 120-day period is not practicable due to several complex issues regarding the selection of the appropriate surrogate financial statements to use in the calculation of normal value for the final results. The parties have submitted extensive arguments regarding the use of financial data from producers of comparable products to derive surrogate financial ratios.

Therefore, in accordance with section 751(a)(3)(A) of the Act, the Department is extending the time period for issuing the final results of this review by 60 days until February 6, 2006.

This notice is published in accordance with sections 751(a)(3)(A) and 777(i) of the Act.

Dated: November 29, 2005.
Stephen J. Claeys,
Deputy Assistant Secretary for Import Administration.

[FR Doc. E5-6844 Filed 12-2-05; 8:45 am]

BILLING CODE 3510-DS-S